DEPARTMENT OF HEALTH AND HUMAN SERVICES

Administration for Children and Families

Submission for OMB Review; Comment Request

Title: TANF Quarterly Financial Report ACF-196R

OMB No.: New Collection

Description: This information collection is authorized under Section 411(a)(3) of the Social Security Act. This request is for approval to create the ACF-196R form for quarterly financial reporting under the Temporary Assistance for Needy Families (TANF) program. Implementation of these changes will entail new costs to ACF, and thus, final adoption will depend upon funding availability. States participating in the TANF program are required by statute to report financial data on a quarterly basis. The form meets the legal standard and provides essential data on the use of federal TANF funds. Failure to collect the data would seriously compromise ACF's ability to monitor program expenditures, estimate funding needs, and to prepare budget submissions and annual reports required by Congress. Financial reporting under the TANF program is governed by 45 CFR Part 265.

Approval of the ACF-196R would result in two basic changes to TANF quarterly financial reports. The first is to require respondents to allocate annual expenditures among an expanded list of categories on the ACF-196R; these categories better reflect the wide range of activities on which states are expending TANF funds. The second change is to the accounting method used to report expenditures made in a fiscal year and monitor cumulative expenditures by grant year award. Specifically, effective FY 2015, with each open grant year award, respondents will be required to report actual expenditures made in a fiscal year rather than updating cumulative totals, using the ACF-196R. If a respondent needs to adjust an expenditure reported in a prior year, it will revise the report for the fiscal year in which that expenditure occurred, rather than the current year's report.

We will maintain the ACF-196 form (Approved OMB No 0970-0247), only for revisions to historical data. Specifically, if a respondent needs to adjust or correct an expenditure submitted in a fiscal year prior to FY 2015, the respondent will revise the ACF-196 pertaining to the relevant grant year for expenditures cumulative through FY 2014. Thus, the reporting burden associated with the ACF-196 is greatly reduced.

ACF revised the proposed ACF-196R form and instructions published in the Federal Register on September 12, 2013, based on comments received. We added to the list of general instructions, and revised some expenditure categories and related definitions, resulting in greater clarity or eased reporting. We also expanded our discussion of adjustments and revisions to prior data to provide examples and address concerns over how TANF financial reporting relates to the accounting method states use to track their expenditures. Finally, we increased the estimated burden hours necessary to complete quarterly reports based on feedback from states.

Respondents: State agencies administering the TANF program

Annual Burden Estimates
Instrument | Number of respondents | Number of responses per respondent | Average burden hours per response | Total burden hours
ACF-196R | 51 | 4 | 32 | 6528

Estimated Total Annual Burden Hours: 6528

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov. Interested parties can also access copies of the proposed collection of information (instructions and forms) by accessing the Information Memorandum TANF-ACF-IM-2014-01 on the Policy page of the OFA Web site, available at http://www.acf.hhs.gov/programs/ofa/programs/tanf/policy.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2014-00440 Filed 1-13-14; 8:45 am]

BILLING CODE 4184-01-P